DEPARTMENT OF ENERGY

Federal Energy Regulatory Commission

Combined Notice of Filings #1

Take notice that the Commission received the following electric corporate filings:

Docket Numbers: EC13-145-000.

Applicants: Kansas City Power & Light Company, KCP&L Greater Missouri Operations Company, Transource Missouri, LLC.

Description: Application for Authorization for Disposition and Consolidation of Jurisdictional Facilities and Request for Expedited Action of Kansas City Power & Light Company, et al.

Filed Date: 9/13/13.

Accession Number: 20130913-5027.

Comments Due: 5 p.m. ET 10/4/13.

Take notice that the Commission received the following electric rate filings:

Docket Numbers: ER10-2870-002; ER10-2865-002; ER10-2868-002; ER10-2853-002; ER10-2856-002; ER10-2872-002; ER10-2860-003; ER11-3013-003.

Applicants: TransCanada Power Marketing Ltd., TransCanada Energy Sales, Ltd., TransCanada Hydro Northeast Inc., Ocean State Power, Ocean State Power II, TransCanada Maine Wind Development Inc., Coolidge Power LLC, TC Ravenswood, LLC.

Description: Notice of Non-Material Change in Status of TransCanada Entities.

Filed Date: 9/13/13.

Accession Number: 20130913-5059.

Comments Due: 5 p.m. ET 10/4/13.

Docket Numbers: ER11-3013-002; ER10-2865-001; ER10-2870-001.

Applicants: Coolidge Power LLC.

Description: Amendment to June 28, 2013 Triennial Market Power Update for the Southwest Region of the Coolidge Power LLC, et al.

Filed Date: 9/13/13.

Accession Number: 20130913-5058.

Comments Due: 5 p.m. ET 10/4/13.

Docket Numbers: ER13-1695-001.

Applicants: Midcontinent Independent System Operator, Inc.

Description: Midcontinent Independent System Operator, Inc. submits Escanaba Sch 43 Comp Filing to be effective 6/15/2013.

Filed Date: 9/12/13.

Accession Number: 20130912-5076.

Comments Due: 5 p.m. ET 10/3/13.

Docket Numbers: ER13-1699-001.

Applicants: Midcontinent Independent System Operator, Inc.

Description: Midcontinent Independent System Operator, Inc. submits SA 6500 Escanaba Amended Restated Comp Filing to be effective 6/15/2013.

Filed Date: 9/12/13.

Accession Number: 20130912-5075.

Comments Due: 5 p.m. ET 10/3/13.

Docket Numbers: ER13-1759-001.

Applicants: Wisconsin Electric Power Company.

Description: Wisconsin Electric Power Company submits WPS BAOCA Letter of Concurrence—Sept 2013 to be effective 5/20/2013.

Filed Date: 9/12/13.

Accession Number: 20130912-5086.

Comments Due: 5 p.m. ET 10/3/13.

Docket Numbers: ER13-1760-001.

Applicants: Wisconsin Electric Power Company.

Description: Wisconsin Electric Power Company submits Wisconsin Electric Rate Schedule No. 129—UPPCO BAOCA Concurrence—Sept 2013 to be effective 5/20/2013.

Filed Date: 9/13/13.

Accession Number: 20130913-5051.

Comments Due: 5 p.m. ET 10/4/13.

Docket Numbers: ER13-2139-000.

Applicants: Merlin One, LLC.

Description: Merlin One, LLC submits Supplement to the Application for Authority to Engage in Sales for Resale at Market-Based Rates.

Filed Date: 9/11/13.

Accession Number: 20130911-5072.

Comments Due: 5 p.m. ET 10/2/13.

Docket Numbers: ER13-2373-000.

Applicants: New York Independent System Operator, Inc.

Description: New York Independent System Operator, Inc. submits 205 Filing MST 8 correct Federal Register cite to CFTC final order to be effective 9/15/2013.

Filed Date: 9/12/13.

Accession Number: 20130912-5088.

Comments Due: 5 p.m. ET 9/19/13.

Docket Numbers: ER13-2374-000.

Applicants: Pacific Gas and Electric Company.

Description: Pacific Gas and Electric Company submits Western's WPA for O'Neill Control Room, Rate Schedule FERC No. 228 to be effective 9/16/2013.

Filed Date: 9/13/13.

Accession Number: 20130913-5000.

Comments Due: 5 p.m. ET 10/4/13.

Docket Numbers: ER13-2375-000.

Applicants: Midcontinent Independent System Operator, Inc.

Description: Midcontinent Independent System Operator, Inc. submits 2013-09-13 Vectren Attachment O to be effective 1/1/2014.

Filed Date: 9/13/13.

Accession Number: 20130913-5014.

Comments Due: 5 p.m. ET 10/4/13.

Docket Numbers: ER13-2376-000.

Applicants: Midcontinent Independent System Operator, Inc., Northern Indiana Public Service Company.

Description: Midcontinent Independent System Operator, Inc. submits 2013-09-13 NIPSCO Attachment O to be effective 1/1/2014.

Filed Date: 9/13/13.

Accession Number: 20130913-5036.

Comments Due: 5 p.m. ET 10/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2013.
Nathaniel J. Davis, Sr.,
Deputy Secretary.

[FR Doc. 2013-22939 Filed 9-20-13; 8:45 am]

BILLING CODE 6717-01-P